DEPARTMENT OF THE INTERIOR

Office of the Secretary

[19XD4523WS/DWSN00000.000000/DS61500000/DP.61501]

Notice of Public Meetings of the Invasive Species Advisory Committee

AGENCY: National Invasive Species Council, Interior.

ACTION: Announcement of meeting.

SUMMARY: Pursuant to the provisions of the Federal Advisory Committee Act, notice is hereby given of a meeting of the Invasive Species Advisory Committee. The purpose of the Advisory Committee (ISAC) is to provide advice to the National Invasive Species Council (NISC), as authorized by Executive Orders 13112 and 13751, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues. The purpose of an in-person meeting on Tuesday, February 26, 2019 through Thursday, February 28, 2019 is to convene the full ISAC Class 9 to respond to requests for advice on: (1) Relevance of the ISAC wildlife health white paper recommendations to addressing invasive ticks and tick-borne diseases (with particular emphasis on military and outdoor recreation contexts); and, (2) recommendations set forth in ISAC white papers over the last twenty years that have not yet been addressed and warrant timely consideration given pressing/emerging invasive species concerns.

DATES: Meeting of the Invasive Species Advisory Committee: Tuesday, February 26, 2019, 8:30 a.m.-5:00 p.m.; Wednesday, February 27, 2019, 8:30 a.m.-5:00 p.m.; Thursday, February 28, 2019, 8:30 a.m.-3:00 p.m.

ADDRESSES: Smithsonian Institution National Museum of the American Indian, 4th and Independence Avenue SW, Washington, DC 20560. The general session will be held in the Conference Center (4th Floor). NOTE: All meeting participants and interested members of the public must register their attendance online at www.invasivespecies.gov. Attendees must pass through security screening upon entering the facility.

FOR FURTHER INFORMATION CONTACT: Kelsey Brantley, Coordinator for NISC and ISAC Operations, National Invasive Species Council Secretariat, (202) 208-4122; Fax: (202) 208-4118, email: kelsey_brantley@ios.doi.gov.

Stanley W. Burgiel,
Acting Executive Director, National Invasive Species Council.

[FR Doc. 2019-01891 Filed 2-8-19; 8:45 am]

BILLING CODE 4334-63-P